DEPARTMENT OF TRANSPORTATION

Federal Aviation Administration

14 CFR Part 39

[Docket No. 2000-SW-55-AD; Amendment 39-12898; AD 2002-20-03]

RIN 2120-AA64

Airworthiness Directives; Eurocopter France Model AS332C, L, L1, and L2; AS350B, BA, B1, B2, B3, and D; AS355E, F, F1, F2, and N; AS-365N2; AS 365 N3; SA330F, G, and J; SA-360C; SA-365C, C1, and C2; SA.316B and C; and SA.319B Helicopters

AGENCY: Federal Aviation Administration, DOT.

ACTION: Final rule.

SUMMARY: This amendment adopts a new airworthiness directive (AD) for the specified Eurocopter France (ECF) model helicopters that requires a one-time measurement of the electrical resistance between the ferry fuel tank (tank) electrostatic ground connector and the tank filler neck before the next refueling of an installed tank or before the first fueling after installing a tank. If the electrical resistance has a value more than 1.5 milliohms, this AD prohibits refueling the tank. This amendment is prompted by reports of an inadequate electrical bond between the electrostatic ground connector and its support on several tank installations. The actions specified by this AD are intended to prevent refueling a tank that is not adequately electrically bonded, which could generate an electric arc between the refueling nozzle and the tank, causing an explosion.

DATES: Effective November 6, 2002.

FOR FURTHER INFORMATION CONTACT: Ed Cuevas, Aviation Safety Engineer, FAA, Rotorcraft Directorate, Regulations Group, Fort Worth, Texas 76193-0111, telephone (817) 222-5355, fax (817) 222-5961.

SUPPLEMENTARY INFORMATION: A proposal to amend 14 CFR part 39 to include an AD for ECF Model AS332C, L, L1, and L2; AS350B, BA, B1, B2, B3, and D; AS355E, F, F1, F2, and N; AS-365N2; AS 365 N3; SA330F, G, and J; SA-360C; SA-365C, C1, and C2; SA.316B and C; and SA.319B helicopters was published in the Federal Register on May 16, 2002 (67 FR 34880). That action proposed to require, before the next refueling of an installed tank or before the first fueling after installing a tank, a one-time measurement of the electrical resistance between the tank electrostatic ground connector and the tank filler neck to determine if the electrical resistance has a value more than 1.5 milliohms. If the value of the electrical resistance is more than 1.5 milliohms, the proposal would prohibit refueling the tank.

The Direction Generale de L'Aviation Civile (DGAC), the airworthiness authority for France, notified the FAA that an unsafe condition may exist on ECF Model AS332C, L, L1, and L2; AS350B, BA, B1, B2, B3, and D; AS355E, F, F1, F2, and N; AS-365N2; AS 365 N3; SA330F, G, and J; SA-360C; SA-365C, C1, and C2; SA.316B and C; and SA.319B helicopters. The DGAC advises of the absence on several tanks of an electric bond between the electrostatic ground connector and its support. During refueling of a tank, the inadequate electrical bonding could generate an electric arc between the refueling nozzle of the tanker and the tank and could cause the tank to explode.

ECF has issued Telex No. 000112 dated June 6, 2000, which specifies a one-time measurement of the electrical resistance between the tank electrostatic ground connector and the tank filler neck to determine if the value is more than 1.5 milliohms. If the value of the electrical resistance of the electrical bonding is more than 1.5 milliohms, the service telex specifies a secondary procedure for measuring the electrical resistance. If the value of the electrical resistance is more than 1.5 milliohms after the secondary measurement, the tank is unusable and the telex specifies a repair. The DGAC classified this telex as mandatory and issued AD 2000-302(A), dated July 12, 2000, to ensure the continued airworthiness of these helicopters in France.

Interested persons have been afforded an opportunity to participate in the making of this amendment. No comments were received on the proposal or the FAA's determination of the cost to the public. The FAA has determined that air safety and the public interest require the adoption of the rule as proposed.

We estimate that 736 helicopters of U.S. registry will be affected by this AD. Measuring the electrical resistance between the tank electrostatic ground connector and the tank filler neck will take approximately ½ work hour per helicopter to accomplish, and the average labor rate is $60 per work hour. Based on these figures, the total cost impact of this AD on U.S. operators is estimated to be $22,080 for the first refueling of all installed tanks.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-20-03 Eurocopter France: Amendment 39-12898. Docket No. 2000-SW-55-AD.

Applicability: Model AS332C, L, L1, and L2; AS350B, BA, B1, B2, B3, and D; AS355E, F, F1, F2, and N; AS-365N2; AS 365 N3; SA330F, G, and J; SA-360C; SA-365C, C1, and C2 helicopters with a metal ferry fuel tank (tank), part number (P/N) 330A 871310.00, .01, .02, .03, or .04, installed; and Model SA.316B and C; and SA.319B helicopters with a tank, P/N 3160S 7375020, or 3160S 7375020-1, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required before the next refueling of an installed tank or before the first fueling after installing a tank, unless accomplished previously.

To prevent refueling a tank that is not adequately electrically bonded, which could generate an electric arc between the refueling nozzle and the tank, causing a fuel tank explosion, accomplish the following:

(a) Measure the electrical resistance between the tank electrostatic ground connector (item C) and the tank filler neck (item G) as shown in Figure 1 of this AD. If the value of the electrical resistance is more than 1.5 milliohms, refueling the tank is prohibited. See Figure 1 as follows:

Note 2: Eurocopter Telex No. 000112 dated June 6, 2000, pertains to the subject of this AD.

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Regulations Group.

(c) Special flight permits will not be issued.

(d) This amendment becomes effective on November 6, 2002.

Note 4: The subject of this AD is addressed in Direction Generale De L'Aviation Civile (France) AD 2000-302(A), dated July 12, 2000.

Issued in Fort Worth, Texas, on September 19, 2002.
Eric D. Bries,
Acting Manager, Rotorcraft Directorate, Aircraft Certification Service.

[FR Doc. 02-24988 Filed 10-1-02; 8:45 am]

BILLING CODE 4910-13-P